PRESIDIO TRUST

The Presidio of San Francisco, California; Rescheduled Public Hearing Regarding the Draft Presidio Trust Implementation Plan and Draft Environmental Impact Statement

AGENCY: The Presidio Trust.

ACTION: Rescheduled public hearing.

SUMMARY: Due to the national crisis on Tuesday, September 11, 2001, the Presidio Trust (Trust) cancelled on short notice the first of two public hearings regarding the draft Presidio Trust Implementation Plan (PTIP) and draft Environmental Impact Statement (EIS). The first hearing, previously scheduled for September 11, 2001 by notice of hearing published in the Federal Register on July 26, 2001 (66 FR 39058-59), will now be held on Tuesday, October 16, 2001, beginning at 6:00 p.m., at the Officers' Club, 50 Moraga Avenue, The Presidio of San Francisco (Presidio), California. The public meeting of the Trust's Board of Directors and second public hearing on the PTIP, noticed in the Federal Register on August 21, 2001 (66 FR 43921-22) and scheduled for Monday, September 17, 2001 from 1:00 p.m. to 4:00 p.m., at the Officers' Club, 50 Moraga Avenue, Presidio, will be held as planned. At these two hearings, members of the public may offer oral comment on the PTIP and the EIS that will be received for the record and responded to by the Trust when a final PTIP and EIS are issued.

FOR FURTHER INFORMATION: Contact John Pelka, NEPA Compliance Coordinator, the Presidio Trust, 34 Graham Street, P.O. Box 29052, San Francisco, CA 94129-0052. Telephone: (415) 561-5414.

Dated: September 13, 2001.
Karen A. Cook,
General Counsel.

[FR Doc. 01-23322 Filed 9-18-01; 8:45 am]

BILLING CODE 4310-4R-P